DEPARTMENT OF JUSTICE

Antitrust Division

Notice Pursuant to the National Cooperative Research and Production Act of 1993—VSI Alliance

Notice is hereby given that, on April 12, 2004, pursuant to Section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, Atrenta, Inc., San Jose, CA; Steve Bibyk (individual member), Columbus, OH; Bitboys Oy, Noormarkku, Finland; Certess, Voreppe, France; Digitas, Tranby, Norway; Richard Stolzman (individual member), Campbell, CA; and Tower Semiconductors, Migdal Haemek, Israel have been added as parties to this venture.

Also, Advantest, Gunma, Japan; Analog Devices, Norwood, MA; Barcelona Designs, Newark, CA; CAST, Inc., Nyack, NY; IMEC, Leuven, Belgium; InTime Software, Cupertino, CA; Matsushita Electric Industrial, Co., Ltd., Osaka, Japan; Microelectronics Research Insit PROGRESS, Moscow, Russia; ModelWare, Inc., Red Bank, NJ; NEC Electronics Corp., Santa Clara, CA; Piiri Technologies Oy, Oulu, Finland; Sharp Corporation, Tenri, Japan; SPaSE BV, Nijmegen, The Netherlands; Telecom Italia, Torino, Italy; Vast Systems, Inc., San Jose, CA; and Christopher Wang (individual member), Tokyo, Japan have been dropped as parties to this venture.

No other changes have been made in either the membership or planned activity of the group research project. Membership in this group research project remains open, and VSI Alliance intends to file additional written notification disclosing all changes in membership.

On November 29, 1996, VSI Alliance filed its original notification pursuant to Section 6(a) of the Act. The Department of Justice published a notice in the Federal Register pursuant to Section 6(b) of the Act on March 4, 1997 (62 FR 9812).

The last notification was filed with the Department on October 10, 2003. A notice was published in the Federal Register pursuant to section 6(b) of the Act on November 12, 2003 (68 FR 64126).

Dorothy B. Fountain,
Deputy Director of Operations, Antitrust Division.

[FR Doc. 04-10001 Filed 4-30-04; 8:45 am]

BILLING CODE 4410-11-M